DEPARTMENT OF DEFENSE

Office of the Secretary

Department of Defense Science and Technology Reinvention Laboratory Personnel Demonstration Project

AGENCY: Office of the Under Secretary of Defense for Research and Engineering (OUSD(R&E)), Department of Defense (DoD).

ACTION: Notice of amendment.

SUMMARY: On September 15, 2017, DoD published a Federal Register Notice (FRN) to implement a new workforce-shaping pilot program that provides the science and technology reinvention laboratory (STRL) lab directors the authority to dynamically shape the mix of technical skills and expertise in the workforces of such laboratories to achieve one or more of the objectives in section 1109(a) of the National Defense Authorization Act (NDAA) for Fiscal Year (FY) 2016. The suite of workforce-shaping tools available to STRL lab directors includes flexible-length and renewable-term technical appointments, modified re-employed annuitant authority, and modified voluntary early retirement and separation incentive authorities. Updates are necessary to clarify that subsequent changes to this authority are applicable. For example, section 1112 of the NDAA for FY 2019 amends this authority to allow flexible-length and renewable-term technical appointments for current DoD term employees. In addition to updating other legislative references, this notice clarifies application of probationary/trial periods and career tenure to flexible-length and renewable-term technical appointments and subsequent conversion to career or career-conditional appointments.

DATES: This notice may be implemented beginning on May 27, 2021.

FOR FURTHER INFORMATION CONTACT: Dr. Jagadeesh Pamulapati, Director, Laboratories and Personnel Office, 4800 Mark Center Drive, Alexandria, VA 22350.

SUPPLEMENTARY INFORMATION:

Modifications

In the notice published on September 15, 2017, 82 FR 43339-43343:

1. On page 43339, second column, under SUMMARY, in the first sentence, after “section 1109(a) of the NDAA for FY2016” insert “, Public Law 114-92, as amended by section 1112 of the NDAA for FY 2019, Public Law 115-232.”

2. On page 43339, third column, FOR FURTHER INFORMATION CONTACT, under “Department of the Army” replace all with the following bullet list:

• Combat Capabilities Development Command Armaments Center: Mr. Mike Nicotra, Human Capital Management Office, Building 1, 3rd Floor, RDAR-EIH, Picatinny Arsenal, NJ 07806-5000;

• Combat Capabilities Development Command Army Research Laboratory: Mr. Christopher Tahaney, AMSRD-ARL-O-HR, 2800 Powder Mill Road, Adelphi, MD 20783-1197;

• Combat Capabilities Development Command Aviation and Missile Center: Ms. Nancy Salmon, 5400 Fowler Road, Redstone Arsenal, AL 35898-5000;

• Combat Capabilities Development Command Chemical Biological Center: Ms. Patricia Milwicz, Office of the Technical Director, G-1 Human Resource Office, Department of the Army, ATTN: FCDD-CBD-CH, 8198 Blackhawk Road, Building E3330, Aberdeen Proving Ground, MD 21010-5424;

• Combat Capabilities Development Command Command, Control, Communications, Computers, Cyber, Intelligence, Surveillance, and Reconnaissance Center: Ms. Angela Clybourn, C4ISR Campus Building 6002, Room D3126D, ATTN: RDER-DOS-ER, Aberdeen Proving Ground, MD 21005;

• Combat Capabilities Development Command Ground Vehicle Systems Center: Ms. Jennifer Davis, ATTN: RDTA-CS/MS 204, Warren, MI 48397-5000;

• Combat Capabilities Development Command Soldier Center: Ms. Joelle Montecalvo, 15 General Greene Ave. (FCDD-SCG-HR), Natick, MA 01760;

• Engineer Research and Development Center: Ms. Patricia Sullivan, 3909 Halls Ferry Road, Vicksburg, MS 39180-6199;

• Medical Research and Development Command: Ms. Linda Krout, 505 Scott St., Fort Detrick, MD 21702-5000.

3. On page 43340, first column, delete the following bullet:

• Space and Naval Warfare Systems Command, Space and Naval Warfare Systems Center (SSC):

○ SSC Atlantic: Ms. Veronica Truesdale, SSC Atlantic STRL Project Lead, SSC Atlantic, P.O. Box 190022, North Charleston, SC 29419-9022;

○ SSC Pacific: Ms. Angela Hanson, SSC Pacific STRL Project Lead, SSC Pacific, 53560 Hull Street, San Diego, CA 92152-5001

and insert the following:

• Naval Information Warfare Center:

○ Naval Information Warfare Center Atlantic: Mr. Michael Gagnon, P.O. Box 190022, North Charleston, SC 29419-9022;

○ Naval Information Warfare Center Pacific: Ms. Angela Hanson, 53560 Hull Street, San Diego, CA 92152-5001.

4. On page 43340, first column, SUPPLEMENTARY INFORMATION, under 1. “Background,” in the second sentence, after “section 1105 of the NDAA for FY 2010, Public Law 111-84,” insert “as amended by section 1103 of the NDAA for FY 2015, Public Law 113-291, and section 1104 of the NDAA for FY 2018, Public Law 115-91,”

5. On page 43340, first column and top of second column, SUPPLEMENTARY INFORMATION, under 1. Background,” the last sentence of the first paragraph, remove “The 15 current STRLs are” and replace with “The 20 current STRLs are”; replace the listing of STRLs with the following:

• Combat Capabilities Development Command Armaments Center (CCDC AC)

• Combat Capabilities Development Command Army Research Laboratory (CCDC ARL)

• Combat Capabilities Development Command Aviation and Missile Center (CCDC AvMC)

• Combat Capabilities Development Command Chemical Biological Center (CCDC CBC)

• Combat Capabilities Development Command Command, Control, Communications, Cyber, Intelligence, Surveillance, and Reconnaissance Center (CCDC C5ISR)

• Combat Capabilities Development Command Ground Vehicle Systems Center (CCDC GVSC)

• Medical Research and Development Command (MRDC)

• Combat Capabilities Development Command Soldier Center (CCDC SC)

• Army Research Institute for the Behavioral and Social Sciences (ARI)

• Engineer Research and Development Center (ERDC)

• Technical Center, U.S. Army Space and Missile Defense Command (USASMDC)

• Naval Air Systems Command (NAVAIR) Warfare Centers

• Naval Facilities Engineering Systems Command Engineering and Expeditionary Warfare Center (NAVFAC EXWC)

• Naval Information Warfare Centers (NIWC)

• Naval Medical Research Center (NMRC)

• Naval Research Laboratory (NRL)

• Naval Sea Systems Command (NAVSEA) Warfare Centers

• Office of Naval Research (ONR)

• Air Force Research Laboratory (AFRL)

• Joint Warfare Analysis Center (JWAC)

6. On page 43340, second column, under 2.I.A., “Purpose,” in the first sentence, after “NDAA for FY 2016” insert “, as amended by section 1112 of the NDAA for FY 2019,”

7. On page 43340, second column, 2.I.B., “Required Waivers to Law and Regulation,” in the first sentence after “NDAA for FY 2016” insert “, as amended by section 1112 of the NDAA for FY 2019,”

8. On page 43340, third column, under II.A.1., “Authorized Positions,” in the first sentence, after “NDAA for FY 2016” insert “, as amended by section 1112 of the NDAA for FY 2019,” and after “civilian employees” insert “, with the exception of current DoD term employees,”

9. On page 43340, third column, under II.A.1.a., “Authorized Positions,” in the first sentence, after “NDAA for FY 2016,” insert “as amended by section 1112 of the NDAA for FY 2019,”

10. On page 43341, first column, under II.A.3.b., “Provisions,” after “Current DoD employees” insert “, with the exception of current DoD term employees,”

11. On page 43341, at the bottom of the first column and top of the second column, under II.A.3.f., replace “term” with “permanent” as updated in a minor modification dated April 11, 2019. The sentence will read as follows: “Appointees will be afforded equal eligibility for employee programs and benefits comparable to those provided to similar employees on permanent appointments at each STRL, to include opportunities for professional development and eligibility for award programs.”

12. On page 43341, second column, under II.A.3.g, in the first sentence, after “NDAA for FY 2016” insert “, as amended by section 1112 of the NDAA for FY 2019,”

13. On page 43341, in the second column, add the following after j:

k. Probationary/Trial Period. The trial period specified in each STRL FRN will apply to individuals appointed under the Flexible Length and Renewable Term Appointment. If not specified, appointees will serve a two-year trial period.

l. Tenure. For those appointed under the Flexible Length and Renewable Term Technical Appointment authority or converted from a term or modified term to a Flexible Length and Renewable Term Technical Appointment and later converted to a career or career-conditional appointment, the time spent on both appointments will count toward career tenure.

14. On page 43341, II.A.3., based on the additions above, in the second column rename previous:

k. to m.

l. to n.

15. On page 43341, in the third column, under the section renamed to n., “Documenting Personnel Actions,” replace the first sentence in the third column with “The NDAA for FY 2016, section 1109(b)(1), amended by section 1112 of the NDAA for FY 2019, Public Law 115-232, dtd 8/13/2018 (LAC ZLM), will also be cited on all personnel actions.”

16. On page 43341, in the third column, under the section renamed to n., “Documenting Personnel Actions,” at the end of the last sentence, delete “section 1109(b)(1)(B) of the NDAA for FY 2016.” Insert “Public Law 115-232, section 1112.”

17. On page 43341, in the third column, II.B.1., “Authorities,” after “NDAA for FY 2016” insert “, as amended by section 1112 of the NDAA for FY 2019,”

18. On page 43342, first column, II.B.3.b., “Provisions,” remove second sentence and replace it with “The appropriate annuitant indicator will be used (once assigned) on all personnel actions.”

19. On page 43342, first column, II.C.1.a., “Authorities,” in the first sentence, after “NDAA for FY 2016” insert “, as amended by section 1112 of the NDAA for FY 2019,”

20. On page 43342, first column, II.C.1.a., “Authorities,” in the second sentence, after “NDAA for FY 2016” insert “, as amended by section 1112 of the NDAA for FY 2019,”

21. On page 43342, third column, II.D.a., “Sunset Date and Conditions of Use,” in the first sentence, after “NDAA for FY 2016” insert “, as amended by section 1112 of the NDAA for FY 2019,”

22. On pages 43342-43343, in Appendix A, in the table under “Title 5, Code of Federal Regulations,” add the following waivers:

5 CFR part 315.201(b) waived to the extent necessary to allow Flexible Length and Renewable Term Technical Appointments to be considered non-temporary employment for the purposes of determining creditable service toward career tenure.

5 CFR part 316.303(a) waived to the extent necessary to allow Flexible Length and Renewable Term Technical Appointments to count toward competitive status.

5 CFR part 316.304(a) waived to allow a two-year trial period under the Flexible Length and Renewable Term Technical Appointment.

23. On page 43343, replace Appendix B in its entirety with the following:

Appendix B—Authorized STRLs and FRNs
STRL | FRN
Combat Capabilities Development Command Armaments Center | 76 FR 3744.
Combat Capabilities Development Command Army Research Laboratory | 63 FR 10680.
Combat Capabilities Development Command Aviation and Missile Center | 62 FR 34906 and 62 FR 34876 amended by 65 FR 53142 (AVRDEC and AMRDEC merged together).
Combat Capabilities Development Command Chemical Biological Center | 74 FR 68936.
Combat Capabilities Development Command Command, Control, Communications, Cyber, Intelligence, Surveillance, and Reconnaissance Center | 66 FR 54872.
Combat Capabilities Development Command Ground Vehicle Systems Center | 76 FR 12508.
Combat Capabilities Development Command Soldier Center | 74 FR 68448.
Army Research Institute for the Behavioral and Social Sciences | 85 FR 76038.
Engineer Research and Development Center | 63 FR 14580 amended by 65 FR 32135.
Medical Research and Development Command | 63 FR 10440.
Technical Center, U.S. Army Space and Missile Defense Command | 85 FR 3339.
Naval Air Warfare Center | 76 FR 8530.
Naval Facilities Engineering Command Engineering and Expeditionary Warfare Center | 86 FR 14084.
Naval Information Warfare Centers | 76 FR 1924.
Naval Medical Research Center | Not yet published.
Naval Research Laboratory | 64 FR 33970.
Naval Sea Systems Command Warfare Centers | 62 FR 64050.
Office of Naval Research | 75 FR 77380.
Air Force Research Laboratory | 61 FR 60400 amended by 75 FR 53076.
Joint Warfare Analysis Center | 85 FR 29414.

Dated: May 14, 2021.
Aaron T. Siegel,
Alternate OSD Federal Register Liaison Officer, Department of Defense.

[FR Doc. 2021-11185 Filed 5-26-21; 8:45 am]

BILLING CODE 5001-06-P